FEDERAL TRADE COMMISSION

Senior Executive Service Performance Review Board

AGENCY: Federal Trade Commission.

ACTION: Notice.

SUMMARY: Notice is hereby given of the appointment of members to the Federal Trade Commission’s Performance Review Board.

FOR FURTHER INFORMATION CONTACT: Karen Leydon, Director of Human Resources, 600 Pennsylvania Avenue NW, Washington, DC 20580, (202) 326-3633.

SUPPLEMENTARY INFORMATION: Publication of the Performance Review Board (PRB) membership is required by 5 U.S.C. 4314 (c)(4). The PRB reviews and evaluates the initial appraisal of a senior executive’s performance by the supervisor, and makes recommendations regarding performance ratings, performance awards, and pay-for-performance pay adjustments to the Chairman.

The following individuals have been designated to serve on the Commission’s Performance Review Board:

• Charles H. Schneider, Executive Director, Chairman

• Willard K. Tom, General Counsel

• Pauline M. Ippolito, Deputy Director, Bureau of Economics

By direction of the Commission.

Donald S. Clark
Secretary

[FR Doc. E9-24731 Filed 10-14-09: 9:55 am]

BILLING CODE 6750-01-S